DEPARTMENT OF TRANSPORTATION

Office of the Secretary

Notice of Applications for Certificates of Public Convenience and Necessity and Foreign Air Carrier Permits Filed Under Subpart B (formerly Subpart Q) During the Week Ending February 6, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-4660.

Date Filed: February 4, 2004.

Due Date for Answers, Conforming Applications, or Motion to Modify Scope: February 25, 2004.

Description: Application of Continental Micronesia, Inc., requesting renewal of its certificate of public convenience and necessity for its Route 171, Segment 7 authority to provide scheduled foreign air transportation of persons, property, and mail between Guam and Saipan, Commonwealth of the Northern Mariana Islands, on the one hand, and Naha, Japan, on the other hand. Continental Micronesia also requests, renewal of the right to combine this authority with its authority in other markets to the extent permitted by applicable bilateral agreements.

Docket Number: OST-1999-5002.

Date Filed: February 4, 2004.

Due Date for Answers, Conforming Applications, or Motion to Modify Scope: February 25, 2004.

Description: Application of Continental Micronesia, Inc., requesting renewal of its certificate of public convenience and necessity for its Route 171, Segment 14 authority to provide scheduled foreign air transportation of persons, property, and mail between Guam and Saipan, Commonwealth of the Northern Mariana Islands, on the one hand, and Osaka, Japan, on the other hand. Continental Micronesia also requests, renewal of the right to combine this authority with its authority in other markets to the extent permitted by applicable bilateral agreements.

Docket Number: OST-2004-17064.

Date Filed: February 6, 2004.

Due Date for Answers, Conforming Applications, or Motion to Modify Scope: February 27, 2004.

Description: Application of Varig Logistica S.A. d/b/a Varig Log, requesting a foreign air carrier permit to provide scheduled foreign air transportation of property and mail on any and all routes authorized pursuant to the Agreement between the Government of the United States of America and the Government of the Federative Republic of Brazil on Air Transport.

Andrea M. Jenkins,
Program Manager, Docket Operations, Federal Register Liaison.

[FR Doc. 04-3616 Filed 2-18-04; 8:45 am]

BILLING CODE 4910-62-P